DEPARTMENT OF ENERGY

Federal Energy Regulatory Commission

[Docket No. AD21-8-000; Docket No. ER02-2001-000]

Technical Conference on Reassessment of the Electric Quarterly Report Requirements; Supplemental Notice of Technical Conference

As announced in the Notice of Technical Conference issued on January 8, 2021, the Federal Energy Regulatory Commission staff will convene a technical conference on February 24, 2021 as part of a reassessment of the Electric Quarterly Report (EQR) requirements, in Docket No. AD21-8-000. The purpose of this technical conference is to provide a forum for Commission staff, filers, and data users to discuss potential changes to the current EQR data fields. This technical conference is intended to be the first in a series of conferences related to a reassessment of the EQR requirements.

All future notices, submittals, and issuances pertaining to the technical conferences will be issued in Docket No. AD21-8-000. There is an “eSubscription” link on the Commission's website that enables subscribers to receive email notification when a document is added to a subscribed docket(s).

Dated: January 13, 2021.
Nathaniel J. Davis, Sr.,
Deputy Secretary.

[FR Doc. 2021-01182 Filed 1-19-21; 8:45 am]

BILLING CODE 6717-01-P